DEPARTMENT OF HOMELAND SECURITY

Coast Guard

[USCG-2014-0941]

Port Access Route Study: In the Chukchi Sea, Bering Strait and Bering Sea

AGENCY: Coast Guard, DHS.

ACTION: Notice; withdrawal.

SUMMARY: The Coast Guard published a document in the Federal Register of February 19, 2015, (80 FR 8892) concerning the Port Access Route Study (PARS) in the Chukchi Sea, Bering Strait and Bering Sea. The February 19, 2015, PARS document was erroneously published and should be disregarded in its entirety.

FOR FURTHER INFORMATION CONTACT: If you have questions on this notice of study or any of the meetings, call or email LT Kody Stitz, Seventeenth Coast Guard District (dpw); telephone (907) 463-2270; email Kody.J.Stitz@uscg.mil or Mr. David Seris, Seventeenth Coast Guard District (dpw); telephone (907) 463-2267; email David.M.Seris@uscg.mil.

SUPPLEMENTARY INFORMATION: For correct information on the Port Access Route Study please see the Notice of Study published in the Federal Register on December 5, 2014 (79 FR 72157); and the Notice of Public Meetings published in the Federal Register on February 25, 2015 (80 FR 10137).

To electronically access all information referenced in this notice of correction visit http://www.regulations.gov and search for “USCG-2014-0941”.

Dated: March 3, 2015.
D.B. Abel,
Rear Admiral, U.S. Coast Guard, Commander, Seventeenth Coast Guard District.

[FR Doc. 2015-05372 Filed 3-17-15; 8:45 am]

BILLING CODE 9110-04-P